DEPARTMENT OF THE INTERIOR

Bureau of Land Management

[L18100000.NY0000 LLWO840000 12XL1109AF]

Privacy Act of 1974, as Amended; Notice To Delete an Existing System of Records

AGENCY: Bureau of Land Management, Interior.

ACTION: Notice of deletion of an existing system of records.

SUMMARY: Pursuant to the provisions of the Privacy Act of 1974, the Department of the Interior is issuing public notice of its intent to delete the Bureau of Land Management (BLM) Privacy Act system of records, “Safety Management Information, BLM-13” from its existing inventory of records systems. The BLM relies on the Department of the Interior “Safety Management Information System, DOI-60” to cover safety management program records.

DATES: This deletion is effective on August 27, 2014.

FOR FURTHER INFORMATION CONTACT: Suzanne Wachter, Bureau of Land Management Privacy Act Officer, 20 M Street SE., Mail Stop 590, Washington, DC 20003; or by email at swachter@blm.gov.

SUPPLEMENTARY INFORMATION: Pursuant to the provisions of the Privacy Act of 1974, 5 U.S.C. 552a, the BLM is deleting the “Safety Management Information, BLM-13,” system of records notice last published on July 10, 1986 (51 FR 25109) because the notice is obsolete and the records previously maintained within this system have been incorporated into the “Safety Management Information System, DOI-60” system of records (April 7, 1999, 64 FR 16991). Deleting the “Safety Management Information, BLM-13” system of records notice will have no adverse impacts on individuals as the records are covered under the Department-wide safety management system notice and individuals may seek access or correction to their records under the “Safety Management Information System, DOI-60” system of records notice. This deletion will also promote the overall streamlining and management of DOI Privacy Act systems of records.

Suzanne S. Wachter,
Bureau of Land Management Privacy Act Officer.

[FR Doc. 2014-20380 Filed 8-26-14; 8:45 am]

BILLING CODE 4310-84-P